DEPARTMENT OF COMMERCE

International Trade Administration

Initiation of Antidumping and Countervailing Duty Administrative Reviews and Request for Revocation in Part

AGENCY: Import Administration, International Trade Administration, Department of Commerce.

ACTION: Notice of initiation of antidumping and countervailing duty administrative reviews and request for revocation in part.

SUMMARY: The Department of Commerce has received requests to conduct administrative reviews of various antidumping and countervailing duty orders and findings with April anniversary dates. In accordance with the Department's regulations, we are initiating those administrative reviews. The Department of Commerce also received a request to revoke one antidumping duty order in part.

EFFECTIVE DATE: May 23, 2002.

FOR FURTHER INFORMATION CONTACT: Holly A. Kuga, Office of AD/CVD Enforcement, Import Administration, International Trade Administration, U.S. Department of Commerce, 14th Street and Constitution Avenue, NW., Washington, DC 20230, telephone: (202) 482-4737.

SUPPLEMENTARY INFORMATION:

Background

The Department has received timely requests, in accordance with 19 CFR 351.213(b)(2001), for administrative reviews of various antidumping and countervailing duty orders and findings with April anniversary dates. The Department also received a timely request to revoke in part the antidumping duty order on Certain Steel Concrete Reinforcing Bars from Turkey.

Initiation of Reviews: In accordance with section 19 CFR 351.221(c)(1)(i), we are initiating administrative reviews of the following antidumping and countervailing duty orders and findings. We intend to issue the final results of these reviews not later than April 30, 2003.

| Period to be reviewed
Antidumping Duty Proceedings
The People's Republic of China:
Brake Rotors,* A-570-846 | 4/1/01-3/31/02
China National Machinery and Equipment Import & Export (Xianjiang) Corporation, and manufactured by any company other than Zibo Botai Manufacturing Co., Ltd
China National Automotive Industry Import & Export Corporation, and manufactured by any company other than Laizhou CAPCO Machinery Co., Ltd
Laizhou CAPCO Machinery Co., Ltd. and manufactured by any company other than Laizhou CAPCO Machinery Co., Ltd
Laizhou Luyuan Automobile Fittings Co., and manufactured by any company other than Laizhou Luyuan Automobile Fittings Co., or Shenyang Honbase Machinery Co., Ltd
Shenyang Honbase Machinery Co., Ltd., and manufactured by any other company other than Shenyang Honbase Machinery Co., Ltd., or Laizhou Luyuan Automobile Fittings Co
Beijing Concord Auto Technology, Inc
China National Machinery Import & Export Company
Laizhou Auto Brake Equipment Co., Ltd
Qingdao Gren Co
Yantai Winhere Auto-Part Manufacturing Co., Ltd
Longkou Haimeng Machinery Co., Ltd
Zibo Luzhou Automobile Parts Co., Ltd
Laizhou Hongda Auto Replacement Parts Co., Ltd
Hongfa Machinery (Dalian) Co., Ltd
Qingdao Meita Automotive Industry Co., Ltd
Shangdong Laizhou Huanri Group General
* If one of the named companies does not qualify for a separate rate, all other exporters of brake rotors from the People's Republic of China who have not qualified for a separate rate are deemed to be covered by this review as part of the single PRC entity of which the named exporters are a part
Turkey:
Certain Steel Concrete Reinforcing Bars A-489-807 | 4/1/01—3/31/02
Ekinciler Holding, A.S./Ekinciler Demir Celik A.S
Colakoglu Metalurji A.S./Colakoglu Dis Ticaret
ICDAS Celik Enerji Tersane ve Ulasim Sanayi, A.S
Diler Demir Celik Endustrisi ve Ticaret A.S./Yazici Demir Celik
Sanayi ve Ticaret A.S./Diler Dis Ticaret A.S
Habas Sinai ve Tibbi Gazler Istihsal Endustrisi A.S
Countervailing Duty Proceedings
None
Suspension Agreements
None

During any administrative review covering all or part of a period falling between the first and second or third and fourth anniversary of the publication of an antidumping duty order under §351.211 or a determination under §351.218(f)(4) to continue an order or suspended investigation (after sunset review), the Secretary, if requested by a domestic interested party within 30 days of the date of publication of the notice of initiation of the review, will determine whether antidumping duties have been absorbed by an exporter or producer subject to the review if the subject merchandise is sold in the United States through an importer that is affiliated with such exporter or producer. The request must include the name(s) of the exporter or producer for which the inquiry is requested.

Interested parties must submit applications for disclosure under administrative protective orders in accordance with 19 CFR 351.305.

These initiations and this notice are in accordance with section 751(a) of the Tariff Act of 1930, as amended (19 USC 1675(a)), and 19 CFR 351.221(c)(1)(i).

Dated: May 16, 2002.
Holly A. Kuga,
Senior Office Director, Group II, Office 4, Import Administration.

[FR Doc. 02-13008 Filed 5-22-02; 8:45 am]

BILLING CODE 3510-DS-P